DEPARTMENT OF HEALTH AND HUMAN SERVICES

National Institutes of Health

National Cancer Institute; Amended Notice of Meeting

Notice is hereby given of a change in the joint meeting of the National Cancer Advisory Board and NCI Board of Scientific Advisors, June 10, 2018, 8:30 a.m. to June 11, 2018, 12:00 p.m., National Cancer Institute Shady Grove Campus, Rockville, MD 20850 which was published in the Federal Register on February 11, 2019, 84 FR 3312.

This meeting notice is amended to add two subcommittee meetings on Sunday, June 9, 2019. The National Cancer Advisory Board (NCAB) Ad Hoc Subcommittee on Population Science, Epidemiology and Disparities will meet on June 9, 2019 from 5:30 p.m. to 7:00 p.m. and the NCAB Subcommittee on Planning and Budget will meet on June 9, 2019 from 7:30 p.m. to 9:00 p.m. at the Gaithersburg Marriott Washingtonian Center, 9751 Washington Boulevard, Room—To Be Determined, Gaithersburg, MD 20878.

This meeting notice is also amended to change the meeting from a two-day to a one-day meeting, correct the year, and change the closed session agenda. The joint meeting of the NCAB and NCI Board of Scientific Advisors will now be held on June 10, 2019 with the open session from 8:30 a.m. to 4:45 p.m. and the closed session from 5:00 p.m. to 6:00 p.m. The closed session agenda is corrected to be the Review of NCAB grant applications. The meeting is partially Closed to the public.

Dated: May 21, 2019.
Melanie J. Pantoja,
Program Analyst, Office of Federal Advisory Committee Policy.

[FR Doc. 2019-10943 Filed 5-23-19; 8:45 am]

BILLING CODE 4140-01-P